ENVIRONMENTAL PROTECTION AGENCY

[FRL-7260-5]

EPA Science Advisory Board; Notification of Public Advisory Committee Meeting

Pursuant to the Federal Advisory Committee Act, Public Law 92-463, notice is hereby given that the Metals Assessment Panel of the US EPA Science Advisory Board (SAB) will meet on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

Metals Assessment Panel (MAP)—Meeting Dates

The Metals Assessment Panel of the EPA Science Advisory Board (SAB), will meet September 10-12, 2002 in the Dewey room on the plaza level of the Hilton Crystal City at Ronald Reagan National Airport, 2399 Jefferson Davis Highway, Arlington, VA 22202 (Tel. 703-418-6800). The meeting will begin by 9 a.m. on Tuesday September 10 and adjourn no later than 5 p.m. on Thursday September 12.

Purpose of the Meeting—The EPA Science Advisory Board (SAB, Board) announced in 67 FR 38957-38959, June 6, 2002 that it had been asked to undertake a review of EPA's draft Action Plan for the “Framework for Metals Assessment and Cross-Agency Guidance for Assessing Metals-Related Hazard and Risk.” The background, charge, and description of the review documents appear in the above referenced Federal Register notice and are also available at the SAB Web site (www.epa.gov/sab).

Charge to the Subcommittee—The charge for this review was published in 67 FR 38957-38959, June 6, 2002.

Availability of Review Materials: The review documents and their availability was published in 67 FR 46505-46506, July 15, 2002.

For Further Information—Any member of the public wishing further information concerning this meeting or wishing to submit brief oral comments (10 minutes or less) must contact Kathleen White, Designated Federal Officer, EPA Science Advisory Board (1400A), U.S. Environmental Protection Agency, 1200 Pennsylvania Avenue, NW, Washington, DC 20460; telephone (202) 564-4559; FAX (202) 501-0582; or via e-mail at white.kathleen@epa.gov. Requests for oral comments must be in writing (e-mail, fax or mail) and received by Kathleen White no later than noon Eastern Daylight Time on Tuesday, September 3.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Web site (http://www.epa.gov/sab) and in The FY2001 Annual Report of the Staff Director which is available from the SAB Publications Staff at (202) 564-4533 or via fax at (202) 501-0256. Committee rosters, draft Agendas and meeting calendars are also located on our Web site.

Meeting Access—Individuals requiring special accommodation at this meeting, including wheelchair access to the conference room, should contact the DFO at least five business days prior to the meeting so that appropriate arrangements can be made.

Dated: August 12, 2002.
A. Robert Flaak,
Acting Deputy Staff Director, EPA Science Advisory Board.

[FR Doc. 02-20872 Filed 8-15-02; 8:45 am]

BILLING CODE 6560-50-P